DEPARTMENT OF ENERGY

Federal Energy Regulatory Commission

[Docket No. EL14-33-000]

DATC Path 15, LLC; Notice of Institution of Section 206 Proceeding and Refund Effective Date

On April 17, 2014, the Commission issued an order in Docket No. EL14-33-000, pursuant to section 206 of the Federal Power Act (FPA), 16 U.S.C. 824e (2012), instituting an investigation to determine the justness and reasonableness of DATC Path 15, LLC's proposed transmission revenue requirement reduction. DATC Path 15, LLC, 147 FERC ¶ 61,035 (2014).

The refund effective date in Docket No. EL14-33-000, established pursuant to section 206(b) of the FPA, will be the date of publication of this notice in the Federal Register.

Dated: February 23, 2015.
Kimberly D. Bose,
Secretary.

[FR Doc. 2015-04082 Filed 2-26-15; 8:45 am]

BILLING CODE 6717-01-P